INTERNATIONAL TRADE COMMISSION

[Investigation No. 731-TA-909 (Review)]

Low Enriched Uranium From France

Determination

On the basis of the record ¹ developed in the subject five-year review, the United States International Trade Commission (Commission) determines, pursuant to section 751(c) of the Tariff Act of 1930 (19 U.S.C. 1675(c)), that revocation of the antidumping duty order on low enriched uranium from France would be likely to lead to continuation or recurrence of material injury to an industry in the United States within a reasonably foreseeable time.²

¹ The record is defined in section 207.2(f) of the Commission's Rules of Practice and Procedure (19 CFR 207.2(f)).

² Commissioner Deana Tanner Okun did not participate in this review.

Background

The Commission instituted this review on January 3, 2007 (72 FR 144) and determined on April 9, 2007 that it would conduct a full review (72 FR 27151, May 14, 2007). Notice of the scheduling of the Commission's review and of a public hearing to be held in connection therewith was given by posting copies of the notice in the Office of the Secretary, U.S. International Trade Commission, Washington, DC, and by publishing the notice in the Federal Register on May 31, 2007 (72 FR 30393). The hearing was held in Washington, DC, on October 11, 2007, and all persons who requested the opportunity were permitted to appear in person or by counsel.

The Commission transmitted its determination in this review investigation to the Secretary of Commerce on December 13, 2007. The views of the Commission are contained in USITC Publication 3967 (December 2007), entitled Low Enriched Uranium from France: Investigation No. 731-TA-909 (Review).

Issued: December 13, 2007.
By order of the Commission.
Marilyn R. Abbott,
Secretary to the Commission.

[FR Doc. E7-24587 Filed 12-18-07; 8:45 am]

BILLING CODE 7020-02-P